DEPARTMENT OF COMMERCE

Foreign-Trade Zones Board

[B-108-2013]

Foreign-Trade Zone 22—Chicago, Illinois, Authorization of Limited Production Activity, Electrolux Home Care Products Inc. (Kitting of Home Care Products), Minooka, Illinois

On December 19, 2013, the Illinois International Port District, grantee of FTZ 22, submitted a notification of proposed production activity to the Foreign-Trade Zones (FTZ) Board on behalf of Electrolux Home Care Products Inc., within Site 34 of FTZ 22, in Minooka, Illinois.

The notification was processed in accordance with the regulations of the FTZ Board (15 CFR part 400), including notice in the Federal Register inviting public comment (78 FR 79391-79392, 12/30/2013). The FTZ Board has determined that further review of part of the proposed activity is warranted at this time. The production activity described in the notification is authorized on a limited basis, subject to the FTZ Act and the Board's regulations, including Section 400.14, and further subject to a restriction requiring that inputs classified within HTSUS 5911.10, 5911.40, 5911.90 and 6307.10 be admitted in privileged foreign status or domestic (duty-paid) status.

Dated: April 18, 2014.
Andrew McGilvray,
Executive Secretary.

[FR Doc. 2014-09359 Filed 4-23-14; 8:45 am]

BILLING CODE 3510-DS-P